ENVIRONMENTAL PROTECTION AGENCY

40 CFR Part 63

[EPA-HQ-OAR-2010-0682; FRL-9954-94-OAR]

RIN 2060-AT18

National Emission Standards for Hazardous Air Pollutant Emissions: Petroleum Refinery Sector

AGENCY: Environmental Protection Agency (EPA).

ACTION: Proposed rule; notice of public hearing and extension of comment period.

SUMMARY: On October 18, 2016, the Environmental Protection Agency (EPA) published a document to announce its reconsideration of and request for public comment on five issues in the final National Emission Standards for Hazardous Air Pollutant Emissions: Petroleum Refinery Sector that was published on December 1, 2015. Petitioners claim that the public was not afforded an adequate opportunity to comment on these five issues. Additionally, the EPA proposed amendments to the final rule to clarify a compliance issue raised by stakeholders subject to the final rule and to correct a referencing error. The EPA is announcing that a public hearing will be held and extending the public comment period.

DATES: The public hearing will be held on November 17, 2016. The comment period for the proposed rule published in the Federal Register of October 18, 2016 (81 FR 71661), is extended. Written comments must be received on or before December 19, 2016.

ADDRESSES: The public hearing will be held on November 17, 2016, at the Hartman Community Center, 9311 East Avenue P, Houston, Texas 77012. The hearing will convene at 2:00 p.m. (Central Time) and will conclude at 8:00 p.m. (Central Time). The EPA will make every effort to accommodate all speakers. The EPA's Web site for the rulemaking, which includes the proposal and information about the hearing, can be found at: https://www.epa.gov/stationary-sources-air-pollution/petroleum-refinery-sector-reconsideration-october-2016.

Submit your comments, identified by Docket ID No. EPA-HQ-OAR-2010-0682, at http://www.regulations.gov. Follow the online instructions for submitting comments. Once submitted, comments cannot be edited or removed from Regulations.gov. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make.

For additional submission methods, the full EPA public comment policy, and general guidance on making effective comments, please visit http://www.epa.gov/dockets/comments.html.

FOR FURTHER INFORMATION CONTACT: If you would like to present oral testimony at the public hearing, registration will begin on November 3, 2016. To register to speak at a hearing, please use the online registration form available at https://www.epa.gov/stationary-sources-air-pollution/petroleum-refinery-sector-reconsideration-october-2016 or contact Ms. Virginia Hunt at (919) 541-0832 or at hunt.virginia@epa.gov. For additional information regarding the hearing see the SUPPLEMENTARY INFORMATION.

Questions concerning the proposed rule that was published in the Federal Register on October 18, 2016, should be addressed to Ms. Brenda Shine, Office of Air Quality Planning and Standards, Sector Policies and Programs Division (E143-01), Environmental Protection Agency, Research Triangle Park, North Carolina 27711; telephone number: (919) 541-3608; facsimile number: (919) 541-0246; email address: shine.brenda@epa.gov.

SUPPLEMENTARY INFORMATION: The last day to pre-register to present oral testimony in advance of the public hearing will be November 15, 2016. If using email, please provide the following information: The time you wish to speak (afternoon or evening), name, affiliation, address, email address, and telephone and fax numbers. Time slot preferences will be given in the order requests are received. Additionally, requests to speak will be taken the day of the hearing at the hearing registration desk, although preferences on speaking times may not be able to be fulfilled. If you require the service of a translator, please let us know at the time of registration. Please note that registration requests received before each hearing will be confirmed by the EPA via email. We cannot guarantee that we can accommodate all timing requests and will provide requestors with the next available speaking time, in the event that their requested time is taken. Please note that the time outlined in the confirmation email received will be the scheduled speaking time. Again, depending on the flow of the day, times may fluctuate. Please note that any updates made to any aspect of the hearings will be posted online at https://www.epa.gov/stationary-sources-air-pollution/petroleum-refinery-sector-reconsideration-october-2016. While the EPA expects the hearing to go forward as set forth above, we ask that you monitor our Web site or contact Ms. Virginia Hunt at (919) 541-0832 or at hunt.virginia@epa.gov to determine if there are any updates to the information on the hearing. The EPA does not intend to publish a document in the Federal Register announcing any such updates.

Public hearing: The proposal for which the EPA is holding the public hearing was published in the Federal Register on October 18, 2016, and is available at: https://www.epa.gov/stationary-sources-air-pollution/petroleum-refinery-sector-reconsideration-october-2016 and also in the docket identified below. The public hearing will provide interested parties the opportunity to present oral comments regarding the EPA's proposed standards, including data, views or arguments concerning the proposal. The EPA may ask clarifying questions during the oral presentations, but will not respond to the presentations at that time. Written statements and supporting information submitted during the comment period will be considered with the same weight as any oral comments and supporting information presented at the public hearing. The period for providing written comments to EPA will remain open until December 19, 2016.

Commenters should notify Ms. Hunt if they will need specific equipment or if there are other special needs related to providing comments at the public hearing. The EPA will provide equipment for commenters to make computerized slide presentations if we receive special requests in advance. Oral testimony will be limited to 5 minutes for each commenter. The EPA encourages commenters to submit to the docket a copy of their oral testimony electronically (via email or CD) or in hard copy form.

The public hearing schedule, including lists of speakers, will be posted on the EPA's Web site at: https://www.epa.gov/stationary-sources-air-pollution/petroleum-refinery-sector-reconsideration-october-2016. Verbatim transcripts of the hearing and written statements will be included in the docket for the rulemaking. The EPA will make every effort to follow the schedule as closely as possible on the day of the hearing; however, please plan for the hearing to run either ahead of schedule or behind schedule.

How can I get copies of this document and other related information?

The EPA has established a docket for the proposed rule, “National Emission Standards for Hazardous Air Pollutant Emissions: Petroleum Refinery Sector” under Docket ID No. EPA-HQ-OAR-2010-0682, available at http://www.regulations.gov.

Dated: October 31, 2016.
Mary Henigin,
Acting Director, Office of Air Quality Planning and Standards.

[FR Doc. 2016-26595 Filed 11-2-16; 8:45 am]

BILLING CODE 6569-50-P